DEPARTMENT OF THE INTERIOR

National Park Service

[NPS-WASO-NAGPRA-NPS0037736; PPWOCRADN0-PCU00RP14.R50000]

Notice of Inventory Completion: University of Missouri, Museum of Anthropology, Columbia, MO

AGENCY: National Park Service, Interior.

ACTION: Notice.

SUMMARY: In accordance with the Native American Graves Protection and Repatriation Act (NAGPRA), the University of Missouri Museum of Anthropology has completed an inventory of human remains and associated funerary objects and has determined that there is a cultural affiliation between the human remains and associated funerary objects and Indian Tribes or Native Hawaiian organizations in this notice.

DATES: Repatriation of the human remains and associated funerary objects in this notice may occur on or after May 13, 2024.

ADDRESSES: Candace Sall, University of Missouri Museum of Anthropology 1020 Lowry Street, Columbia, MO 65211, telephone (573) 882-9157, email nagpra@missouri.edu.

SUPPLEMENTARY INFORMATION: This notice is published as part of the National Park Service's administrative responsibilities under NAGPRA. The determinations in this notice are the sole responsibility of the University of Missouri Museum of Anthropology, and additional information on the determinations in this notice, including the results of consultation, can be found in the inventory or related records. The National Park Service is not responsible for the determinations in this notice.

Abstract of Information Available

Based on the information available, human remains representing, at least, 36 individuals have been reasonably identified and 22,739 associated funerary objects from 15 sites (see site descriptions) In the 1950s and 1960s, American Archaeology Division at the University of Missouri completed several surveys and excavations under contract for the National Park Service, and later for the Corps of Engineers, in Cedar, Dade, Hickory, Polk and St. Clair Counties, Missouri. In 2009, the Kansas City Corps of Engineers determine the work on these sites occurred before land was purchased and control of the collection was passed to the University of Missouri Museum of Anthropology.

23CE34, no site name, Cedar County, Missouri. This site contains six individuals, including two adults, two adolescents, and two children, collected by UMC staff as part of the Stockton Reservoir Project. This site also contains 432 associated funerary objects, including eight debitage, 70 misc. stone, 326 misc. faunal fragments, one antler tool, five petrified wood, five charcoal, 14 misc. shell, three groundstones and misc. botanical surface debris.

23DA207, Toler Cave, Dade County, Missouri. This site contains one adult, excavated between 1961-64 by MU as part of the Stockton Lake Reservoir project. This site also contains 204 associated funerary objects, including 109 debitage, one biface, one projectile point, one core, 67 misc. shell, five ceramic fragments, and 20 misc. faunal fragments.

23DA235, no site name, Dade County, Missouri. This site contains a tooth from an adult, collected during a surface survey by Rolland Pangborn and University of Missouri staff in 1963 as part of the Stockton Reservoir project. This site also contains 26 associated funerary objects, including two groundstones, two hammerstones, one uniface, three hafted bifaces, and 18 other bifaces.

23DA245, Elmer Long Shelter, Dade County, Missouri. This site contains one adult, excavated by W. Raymond Wood and University of Missouri staff in 1961 as part of the Stockton Reservoir project. This site also contains four associated funerary objects, including misc. two faunal fragments and two ceramics fragments.

23HI34, no site name, Hickory County, Missouri. This site contains one adult, collected by Carl Chapman, likely in the 1950s as part of the Harry S Truman Reservoir project. No associated funerary objects are present.

23HI135, Holbert Bridge Mound, Hickory Country, Missouri. This site contains one adult, excavated by W. Raymond Wood and University of Missouri staff in 1957 as part of the Pomme de Terre Reservoir project. This site also contains 102 associated funerary objects, including 60 debitage, one core, two flake tools (including one scraper and one uniface), five bifaces, 30 projectile point/knives (including 29 Afton points), one groundstone, two misc. stone, and one soil sample.

23PO305, Colline Mound, Polk County, Missouri. This site contains one adult, excavated by W. Raymond Wood and University of Missouri staff in 1963 as part of the Stockton Reservoir project. This site also contains 185 associated funerary objects, including 143 debitage, one projectile point, three flake tools, 11 limestone, two soil samples, 13 misc. faunal fragments, and 12 bifaces.

23PO308, no name site, Polk County, Missouri. This site contains one adult, collected by W. Raymond Wood and University of Missouri staff in 1963 as part of the Stockton Lake Reservoir project. This site also contains two associated funerary objects, including one debitage and one projectile point.

23PO312, no name site, Polk County, Missouri. This site contains one adult and was recorded by Pangborn in 1964 as part of the Stockton Lake Reservoir Project. This site also contains six associated funerary objects, including six misc. faunal fragments.

23SR21, Rock House Cave, St. Clair County, Missouri. This site contains two individuals, including one child and one adult, and the site was probably excavated by Carl H. Chapman, UMC, or by MU staff, potentially as early as 1930s, although the exact circumstances and date of acquisition are unknown. This site also contains 725 associated funerary objects, including 473 misc. faunal fragments, 76 debitage, three misc. stone, 57 misc. shell, 16 bifaces, one hafted biface, one hematite, two charcoal samples, six unifaces, 89 ceramics, and one seed.

23SR103, Rock House Shelter/Broulee Shelter, St. Clair County, Missouri. This site contains two adults, and Chapman or Mett Shippee likely recovered material in the 1950s as part of surveys, although the exact circumstances and date of acquisition are unknown. This site also contains 5,334 associated funerary objects, including 199 ceramic fragments, 3,622 debitage, three drills, 20 flake tools, 100 bifaces, 39 hafted bifaces, five core, five hematite, four mano, one groundstone, two hammerstones, 76 misc. stone, 620 misc. faunal fragments, 629 misc. shell, four wood, four seeds, and one charcoal sample.

23SR117, Harrison Shelter, St. Clair County, Missouri. This site contains one adult, excavated by Carl H. Chapman and University of Missouri staff in 1962 as part of the Kaysinger Bluff project. This site also contains 13,212 associated funerary objects, including 8,140 debitage, five cores, 47 flake tools, 88 bifaces, two drills, 27 projectile points, 61 sandstones, 17 ochre, 321 misc. stone, two groundstones, 10 daub, 83 ceramic fragments, 256 misc. shell, 4,089 misc. faunal fragments, one soil sample, 22 misc. botanicals, 32 wood, one galena, and eight charcoal samples.

23SR122, Gray Shelter, St. Clair County, Missouri. This site contains three individuals, including two adult males and one adult, excavated by Carl H. Chapman and University of Missouri staff in 1961 as part of the Kaysinger Bluff Reservoir salvage project. This site also contains 2,132 associated funerary objects, including 894 misc. faunal fragments, 1,080 debitage, six misc. stone, 16 misc. shell, 29 bifaces, one hafted biface, six wood, seven uniface, three cores, one charcoal sample, 53 iron objects, 22 ceramic fragments (including Baytown plain ceramic fragments and four historic ceramics), two nuttingstones, three scrapers, and nine seeds.

23SR126, Cat Hollow Shelter, St. Clair County, Missouri. This site contains one adult, excavated by Rolland Pangborn and University of Missouri staff in 1961 as part of the Kaysinger Bluff Reservoir salvage project. This site also contains 373 associated funerary objects, including 358 misc. faunal fragments, one ceramic fragment, one charcoal sample and 13 misc. stone.

23SRUNPROV4, unprovenienced individuals and funerary objects from St. Clair County from either 23SR21 or 23SR103. This site contains 13 individuals, including two adolescents (aged 14-18, 16-24 years), eight adult males, and three adults. Survey conducted by Carl Chapman and UMC staff from 1960-1962 for the HST Reservoir (formerly Kaysinger Bluff) project. This collection was identified in review of former KCCCOE collections in 2023 and belongs to either Rock House cave (23SR21) or Rock House shelter (23SR103), per the note inside the box. This site also contains two associated funerary objects, including one misc. botanical and one misc. faunal fragments.

Cultural Affiliation

Based on the information available and the results of consultation, cultural affiliation is reasonably identified by the geographical location or acquisition history of the human remains and associated funerary objects described in this notice.

Determinations

The University of Missouri Museum of Anthropology has determined that:

• The human remains described in this notice represent the physical remains of 36 individuals of Native American ancestry.

• The 22,739 objects described in this notice are reasonably believed to have been placed intentionally with or near individual human remains at the time of death or later as part of the death rite or ceremony.

• There is a reasonable connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 13, 2024. If competing requests for repatriation are received, the University of Missouri Museum of Anthropology must determine the most appropriate requestor prior to repatriation. Requests for joint repatriation of the human remains and associated funerary objects are considered a single request and not competing requests. The University of Missouri Museum of Anthropology is responsible for sending a copy of this notice to the Indian Tribes and Native Hawaiian organizations identified in this notice.

Authority: Native American Graves Protection and Repatriation Act, 25 U.S.C. 3003, and the implementing regulations, 43 CFR 10.10.

Dated: April 3, 2024.
Melanie O'Brien,
Manager, National NAGPRA Program.

[FR Doc. 2024-07716 Filed 4-10-24; 8:45 am]

BILLING CODE 4312-52-P